FEDERAL DEPOSIT INSURANCE CORPORATION

Withdrawal of Eligibility Standards for FDIC/RTC Roster of Neutrals and Roster of Neutral Questionnaires

AGENCY: Federal Deposit Insurance Corporation (FDIC).

ACTION: Withdrawal of policies relating to the creation and maintenance of a Roster of Neutrals.

SUMMARY: The Federal Deposit Insurance Corporation (FDIC or Corporation) herewith withdraws its prior Policies regarding the establishment and maintenance of the FDIC Roster of Neutrals. The FDIC has carefully considered the maintenance of the Roster and issues raised by the development of separate neutral qualifications. The FDIC has determined that alternative dispute resolution (ADR) organizations with ample neutral qualification standards exist within the federal government and private industry sufficient to meet the FDIC's current and future demands for ADR services. As such, the FDIC's maintenance of the FDIC Roster of Neutrals with separate qualifying criteria established by the FDIC duplicates ADR neutral rosters (with highly qualified ADR specialists) that are readily available within the private and federal sectors. Therefore, the FDIC by this Notice withdraws and rescinds all prior notices (59 FR 15205-01, March 31, 1994; 56 FR 50585-02, October 7, 1991; 59 FR 47876-01, September 19, 1994; 62 FR 48659-01, September 16, 1997; and 62 FR 63177-02, November 26, 1997) establishing the FDIC's criteria for neutral selection and the maintenance of the FDIC's Roster of Neutrals.

EFFECTIVE DATE: December 18, 2002.

FOR FURTHER INFORMATION CONTACT: Terry Fenton, Paralegal, Legal Division, Federal Deposit Insurance Corporation, 550 17th Street, NW., Room H-3138, Washington, DC 20429, (202) 736-0369.

Dated at Washington, DC, this 11th day of December, 2002.
Federal Deposit Insurance Corporation.
Valerie J. Best,
Assistant Executive Secretary.

[FR Doc. 02-31852 Filed 12-17-02; 8:45 am]

BILLING CODE 6714-01-P